DEPARTMENT OF LABOR

Employment and Training Administration

Comment Request for Information Collection; Apprenticeship Programs, Labor Standards for Registration; Extension With Revisions

AGENCY: Employment and Training Administration, Labor.

ACTION: Notice.

SUMMARY: The Department of Labor (Department), as part of its continuing effort to reduce paperwork and respondent burden, conducts a preclearance consultation program to provide the general public and Federal agencies with an opportunity to comment on proposed and/or continuing collections of information in accordance with the Paperwork Reduction Act of 1995 (PRA95) [44 U.S.C. 3506(c)(2)(A)]. This program helps to ensure that requested data can be provided in the desired format, reporting burden (time and financial resources) is minimized, collection instruments are clearly understood, and the impact of collection requirements on respondents can be properly assessed. Currently, the Employment and Training Administration (ETA) is soliciting comments concerning the collection of data about Title 20 CFR part 29, Apprenticeship Programs, Labor Standards for Registration with an expiration date of January 31, 2012.

A copy of the proposed information collection request (ICR) can be obtained by contacting the office listed below in the addresses section of this notice.

DATES: Written comments must be submitted to the office listed in the addresses section below on or before November 28, 2011.

ADDRESSES: Submit written comments to John V. Ladd, Administrator, Office of Apprenticeship, Room N-5311 Employment and Training Administration, 200 Constitution Avenue, NW., Washington, DC 20210. Telephone No.: 202-693-2796 (this is not a toll-free number). Fax: 202-693-3799. E-mail: ladd.john@dol.gov.

SUPPLEMENTARY INFORMATION:

I. Background

The National Apprenticeship Act of 1937 (the Act), Section 50 (29 U.S.C. 50), authorizes and directs the Secretary of Labor “to formulate and promote the furtherance of labor standards necessary to safeguard the welfare of apprentices, to extend the application of such standards by encouraging the inclusion thereof in contracts of apprenticeship, to bring together employers and labor for the formulation of programs of apprenticeship, to cooperate with State agencies engaged in the formulation and promotion of standards of apprenticeship, and to cooperate with the Secretary of Education in accordance with Section 17 of Title 20.” Section 50a of the Act authorizes the Secretary of Labor to “publish information relating to existing and proposed labor standards of apprenticeship,” and to “appoint national advisory committees * * *” (29 U.S.C. 50a). On October 29, 2008, ETA issued a final rule in the Federal Register that updated Title 29, CFR part 29. The regulations were revised for the first time since 1977. The rule became effective on December 29, 2008 and implemented changes to Title 29 CFR part 29 that will increase flexibility, enhance program quality and accountability, and promote apprenticeship opportunity in the 21st century, while continuing to safeguard the welfare of apprentices. The approved Office of Management and Budget (OMB) collection instrument, ETA Program Registration (Section I), and Apprentice Registration (Section II), expires January 31, 2012. Both sections are available electronically to facilitate the registration of programs and apprentices.

The changes to the currently approved Section I (ETA Program Registration) consist of the following:

• Instruction Method was revised to include electronic media (technology-based instruction and distance learning).

• Occupation Training Approach now includes the Hybrid Approach.

• The Competency-Based and Hybrid Approaches are explained in more detail. This includes the use of Interim Credentials—certificates that provide portable recognition of an apprentice's accomplishments after certain milestones are achieved during the training. A program sponsor who chooses to use interim credentials must identify and demonstrate how these credentials link to the components of the apprenticeable occupation, and establish a process for assessing an apprentice's competency. Interim Credentials are voluntarily chosen by the program sponsor and are based on standards applicable only to Competency-Based or Hybrid Occupations. The certificates are issued by the Registration Agency upon the program sponsor's request.

• Probation Length in hours clarifies that the probation period cannot exceed 25 percent of the length of the program or one year, whichever is shorter.

• Number of periods in the wage schedule is now based on the program sponsor's Training Occupation Approach. The Program Registration Date was revised.

• Provisional Registration, which is a one-year initial provisional approval for a new program, is provided to programs that meet the required standards for program registration. Programs may continue to be provisionally approved through the first training cycle until permanent registration is granted. Additionally, a five-year review must be conducted of the program to maintain its permanent registration.

Section II (Apprentice Registration) was revised to be aligned with the changes in Section I. These changes included the Occupation Training Approach, the Term of the Apprenticeship, Probationary Period, Term Remaining, and the Wage Schedule.

II. Review Focus

The Department is particularly interested in comments which:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology, e.g., permitting electronic submissions of responses.

III. Current Actions

Recordkeeping and data collection activities regarding registered apprenticeship are by-products of the registration system. Organizations which apply for apprenticeship sponsorship enter into an agreement with the Federal government or cognizant State government to operate their proposed programs consistent with 29 CFR parts 29 and 30. Apprenticeship sponsors are not required to file reports regarding their apprentices other than individual registration and update information as an apprentice moves through their program. Program Registration, Section I, and Apprentice Registration, Section II, are used at different times, for different purposes, and with different individuals or entities. The information is not duplicative. Where necessary, this information will be repopulated electronically from the apprenticeship database to the revised Apprentice Registration—Section II, Part B: Sponsor field area.

Type of Review: Extension with revisions.

Title: Title 29 CFR Part 29, Apprenticeship Programs, Labor Standards for Registration.

OMB Number: 1205-0223.

Affected Public: Program Sponsors, State Apprenticeship Agencies, Applicants, Apprentices, Tribal Government.

Form(s): ETA Form 671: Program Registration—Section I and Apprentice Registration—Section II.

Total Annual Respondents: 139,466.

Annual Frequency: 1-time basis.

Total Annual Responses: 139,466.

Average Time per Response: .083 hours.

Estimated Total Annual Burden Hours: 15,193.

Total Annual Burden Cost for Respondents: $292,349.

Requirement ETA Form 671 | Sec. | Total respondents | Frequency | Annual response | Average response time | Annual burden hours
Section I | 29.3 | 1,000 | 1-time basis | 1,000 | .20 hr./Sponsor | 200
Section II | 29.3 | 67,240 | 1-time basis | 67,240 | .083 hr./Apprentice | 5,581
ditto | 29.6 | 69,400 | 1-time basis | 69,400 | .083 hr./Apprentice | 5,760
ditto | 29.5 | 1,000 | 1-time basis | 1,000 | 2 hrs./Sponsor | 2,000
|  | 800 | 1-time basis | 800 | 2 hrs./SAA | 1,600
ditto | 29.13 | (Have sought recognition and are awaiting final recognition; no new State agency expected during 2012-2015)
ditto | 29.12 | 26 | 1-time basis | 26 | 2 hrs./SAA | 52
ditto | 29.14 | 0 | 1-time basis | 0 | 0 | 0
ditto | Totals | 139,466 |  | 139,466 |  | 15,193

Total Respondents: 139,466 (2,000 sponsors + 136,640 apprentices + 826 SACs).

Total Burden Hours: 15,193 (2,200 sponsors + 11,341 apprentices + 1,652 SACs).

Burden estimates are experience-based.

Comments submitted in response to this comment request will be summarized and/or included in the request for OMB approval of the ICR; they will also become a matter of public record.

Dated: September 21, 2011.
Jane Oates,
Assistant Secretary for Employment and Training.

[FR Doc. 2011-25081 Filed 9-28-11; 8:45 am]

BILLING CODE 4510-FT-P